DEPARTMENT OF COMMERCE

International Trade Administration

[A-570-180, A-428-854, A-533-932, A-517-807]

Hexamethylenetetramine From the People's Republic of China, Germany, India, and Saudi Arabia: Postponement of Preliminary Determinations in the Less-Than-Fair-Value Investigations

AGENCY: Enforcement and Compliance, International Trade Administration, Department of Commerce.

DATES: Applicable February 21, 2025.

FOR FURTHER INFORMATION CONTACT: Thomas Cloyd at (202) 482-1246 (the People's Republic of China (China)); Ajay Menon at (202) 482-0208 (Germany); Dakota Potts at (202) 482-0223 (India); and Andrew Hart at (202) 482-1058 (Saudi Arabia), AD/CVD Operations, Enforcement and Compliance, International Trade Administration, U.S. Department of Commerce, 1401 Constitution Avenue NW, Washington, DC 20230.

SUPPLEMENTARY INFORMATION:

Background

On October 21, 2024, the U.S. Department of Commerce (Commerce) initiated less-than-fair-value (LTFV) investigations of imports of hexamethylenetetramine (hexamine) from China, Germany, India, and Saudi Arabia.¹ Currently, the preliminary determinations of these investigations are due no later than March 10, 2025.

¹ See Hexamethylenetetramine from the People's Republic of China, Germany, India, and Saudi Arabia: Initiation of Less-Than-Fair-Value investigations, 89 FR 213 (November 4, 2024).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 11, 2025, the petitioner ² in these LTFV investigations submitted timely requests that Commerce postpone the preliminary determinations.³ The petitioner stated on the administrative record in each proceeding that it requests postponement in order to allow sufficient time to fully develop all aspects of the administrative record and so that Commerce can analyze forthcoming questionnaire responses, as necessary.⁴

² The petitioner is Bakelite LLC.

³ See Petitioner's Letters, “Antidumping Investigation of Hexamethylenetetramine from the People's Republic of China: Request to Postpone Preliminary Determination,” “Antidumping Investigation of Hexamethylenetetramine from the Federal Republic of Germany: Request to Postpone Preliminary Determination,” “Antidumping Investigation of Hexamethylenetetramine from the Republic of India: Request to Postpone Preliminary Determination,” and “Antidumping Investigation of Hexamethylenetetramine from the Kingdom of Saudi Arabia: Request to Postpone Preliminary Determination,” each dated February 11, 2025.

⁴ Id.

For the reasons stated above and because there are no compelling reasons to deny the requests, Commerce, in accordance with section 733(c)(1)(A) of the Act, is postponing the deadline for the preliminary determinations in these investigations to no later than 190 days after the date on which it initiated these investigations, i.e., April 29, 2025. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: February 14, 2025.
Christopher Abbott,
Deputy Assistant Secretary for Policy and Negotiations, performing the non-exclusive functions and duties of the Assistant Secretary for Enforcement and Compliance.

[FR Doc. 2025-02922 Filed 2-20-25; 8:45 am]

BILLING CODE 3510-DS-P